DEPARTMENT OF COMMERCE

International Trade Administration

[A-469-823]

Utility Scale Wind Towers From Spain: Antidumping Duty Order

AGENCY: Enforcement and Compliance, International Trade Administration, Department of Commerce.

SUMMARY: Based on affirmative final determinations by the Department of Commerce (Commerce) and the International Trade Commission (ITC), Commerce is issuing an antidumping duty order on utility scale wind towers (wind towers) from Spain.

DATES: Applicable August 16, 2021.

FOR FURTHER INFORMATION CONTACT: Benito Ballesteros or Christopher Maciuba, AD/CVD Operations, Office V, Enforcement and Compliance, International Trade Administration, U.S. Department of Commerce, 1401 Constitution Avenue NW, Washington, DC 20230; telephone: (202) 482-7425 or (202) 482-0413.

SUPPLEMENTARY INFORMATION:

Background

On June 25, 2021, Commerce published its affirmative final determination in the less-than-fair-value (LTFV) investigation of wind towers from Spain.¹ On August 9, 2021, the ITC notified Commerce of its final affirmative determination that an industry in the United States is materially injured within the meaning of section 735(b)(1)(A)(i) of the Tariff Act of 1930, as amended (the Act), by reason of imports of wind towers from Spain that are sold in the United States at LTFV.²

¹ See Utility Scale Wind Towers from Spain: Final Determination of Sales at Less Than Fair Value, 86 FR 33656 (June 25, 2021) (Final Determination).

² See ITC Letter, “Notification of ITC Final Determinations,” dated August 9, 2021.

Scope of the Order

The products covered by this order are wind towers. For a complete description of the scope of the order, see the appendix to this notice.

Antidumping Duty Order

On August 9, 2021, in accordance with sections 735(b)(1)(A)(i) and 735(d) of the Act, the ITC notified Commerce of its final determination that an industry in the United States is materially injured by reason of imports of wind towers from Spain. Therefore, in accordance with sections 735(c)(2) of the Act, Commerce is issuing this antidumping duty order. Because the ITC determined that imports of wind towers from Spain are materially injuring a U.S. industry, unliquidated entries of such merchandise from Spain, which are entered or withdrawn from warehouse for consumption, are subject to the assessment of antidumping duties.

In accordance with section 736(b)(1) of the Act, Commerce will instruct U.S. Customs and Border Protection (CBP) to assess, upon further instruction by Commerce, antidumping duties equal to the amount by which the normal value of the merchandise exceeds the export price (or constructed export price) of the merchandise, for all relevant entries of wind towers from Spain. Antidumping duties will be assessed on unliquidated entries of wind towers from Spain which are entered, or withdrawn from warehouse, for consumption on or after April 2, 2021, the date of publication of the Preliminary Determination.³

³ See Utility Scale Wind Towers from Spain: Preliminary Affirmative Determination of Sales at Less Than Fair Value, 86 FR 17354 (April 2, 2021) (Preliminary Determination), and accompanying Preliminary Decision Memorandum.

Suspension of Liquidation and Cash Deposits

In accordance with section 736 of the Act, Commerce will instruct CBP to reinstitute the suspension of liquidation of all relevant entries of wind towers from Spain as described in the Appendix to this notice which are entered, or withdrawn from warehouse for consumption, on or after the date of publication of the ITC's notice of final determination in the Federal Register. These instructions suspending liquidation will remain in effect until further notice.

We will also instruct CBP to require cash deposits for estimated antidumping duties equal to the rates listed below. Accordingly, effective on the date of publication in the Federal Register of the ITC's final affirmative injury determination, CBP will require, at the same time as importers would normally deposit estimated duties on this subject merchandise, a cash deposit equal to the cash deposit rates listed below.⁴ The all-others rate applies to all producers or exporters not specifically listed, as appropriate.

⁴ See section 736(a)(3) of the Act.

Estimated Weighted-Average Dumping Margins

The weighted-average dumping margins for the antidumping duty order are as follows:

Exporter/producer | Dumping margin (percent)
Vestas Eolica S.A.U | 73.00
Acciona Windpower S.A | 73.00
Gamesa Energy Transmission | 73.00
Haizea Wind Group | 73.00
Kuzar Systems, S.L | 73.00
Windar Renovables | 73.00
All Others | 73.00

Provisional Measures

Section 733(d) of the Act states that suspension of liquidation pursuant to an affirmative preliminary determination may not remain in effect for more than four months, except where exporters representing a significant proportion of exports of the subject merchandise request Commerce extended the four-month period to no more than six months. Commerce published the Preliminary Determination on April 2, 2021. The four-month period beginning on the date of publication of the Preliminary Determination ended on July 30, 2021. Furthermore, section 737(b) of the Act states that definitive duties are to begin on the date of publication of the ITC's final injury determination.

Therefore, in accordance with section 733(d) of the Act, we will instruct CBP to terminate the suspension of liquidation and to liquidate, without regard to antidumping duties, unliquidated entries of wind towers from Spain entered, or withdrawn from warehouse, for consumption after July 30, 2021, the date on which the provisional measures expired, until and through the day preceding the date of publication of the ITC's final injury determinations in the Federal Register. Suspension of liquidation will resume on the date of publication of the ITC's final determinations in the Federal Register.

Notifications to Interested Parties

This notice constitutes the antidumping duty order with respect to wind towers from Spain pursuant to section 736(a) of the Act. Interested parties can find a list of antidumping duty orders currently in effect at http://enforcement.trade.gov/stats/iastats1.html.

This order is published in accordance with section 736(a) of the Act and 19 CFR 351.211(b).

Dated: August 10, 2021.
James Maeder,
Deputy Assistant Secretary for Antidumping and Countervailing Duty Operations.

Appendix

Scope of the Order

The merchandise covered by this order consists of certain wind towers, whether or not tapered, and sections thereof. Certain wind towers support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with non-subject merchandise, such as nacelles or rotor blades, and whether or not they have internal or external components attached to the subject merchandise.

Specifically excluded from the scope are nacelles and rotor blades, regardless of whether they are attached to the wind tower. Also excluded are any internal or external components which are not attached to the wind towers or sections thereof, unless those components are shipped with the tower sections.

Merchandise covered by this order is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of the order is dispositive.

[FR Doc. 2021-17406 Filed 8-13-21; 8:45 am]

BILLING CODE 3510-DS-P